DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending December 31, 2024. For purposes of this listing, long-term residents, as defined in section 877(e)(2), are treated as if they were citizens of the United States who lost citizenship.

Last name | First name | Middle name/initials
ACKERSON | DANACA |
AHMAD | IRFAN |
AHUJA | DISHA |
AKAI | YOSHITAKA |
AKAI | REIKO |
AKERBERG | JANET | MARIE PAYNE
AKIMA | MATSUAKI |
AKINSON | SUSAN | ELIZABETH
ALEZRA | MOSHE |
ALI | SAMEE | HASAN
ALKEBY | SARA | ELISABETH
AL-KHALIFA | FATIMA | ALDANA
ALTUNA SOTOMAYOR | MILAGROS | DEL CARMEN
AMATANON | WATANYA |
AMEY | ANDREW | MORGAN
AMICUCCI | ANNA | M.
ANDERSEN | AXEL | HOLME
ANDERSON | REBECCA | TABITHA
ANDERTON | LUKE | EDWARD
ANDREWS | RUTH | ALISON
ANGELERI | ROMINA |
ANSTEY | DAVID | KENNETH
ANTONIOLI | JULIA | E.
AOMORI | YOSHIO |
ARMSTRONG | MATTHEW | JOHN
ARSENAULT | LUCAS | JOHN
ARSENAULT | PIERRE |
ARSENAULT | NICOLAS | CHRISTOPHER
ASHTON | SARAH | HELEN
AVERY | NATALIE | M.
BAERG | TERRENCE | JAMES
BAHUN | TOMOMI |
BARNETT | BENJAMIN | EDWARD
BARRETTO | RODNEY | EDWARD
BARTENSTEIN | CHRISTOPH |
BASS | DAWN | ELIZABETH
BASTAMI | SOHAILA | SAHAR
BEADLE | MEGAN | LOUISE
BECKER | HELGA |
BECKER | PETER |
BELK | ADAM | JAMES
BENNETT-EVERDING | BABETTE | ANNE
BENUDIZ | NIR |
BENYES | CAROLINE | BELINA
BERNT | JULIA | ANNE
BERNTSSON | KENT | OLOF NIKLAS
BEROS | TASIA |
BERZINA | LAURA |
BEVAN | TERRIE | NARELLE
BIMSON | DANIEL | THOMAS OTT
BJOENEBOE | JULIA |
BLAUG | ADAM | MICHAEL
BLISS | KATHARINE | SUZANNE
BOGER POMFRET | MARIELLA | GRANITA ALEXANDRINE
BOKKENHEUSER | MARIKO |
BOKKENHEUSER | ANDREAS | CHRISTIAN
BOLLE | BRIGITTE | AGNES
BORJESON | STIG | LENNART LEN
BORNTRAEGER | BRUNO |
BOUCHARD | JOSEE | MARIE
BOWEN STIRRETT | HANNAH | EMMELINE
BOWEN SWATKINS | SOPHIE | ELLENA
BOWYER | EVELYN | MARY
BRADY | MAIRTIN |
BRANNIGAN | MELANIE | JANE
BRANNINGAN | LANCE | K.
BRENT | JENNIFER | L.
BRENT | KAITLIN | C.
BRIDGE | ANDREW | JOHN
BRIMER | MICHAEL | HENRY
BRINKERHOFF | GAYLE | ANNE
BRUCE | PATRICIA | ANNE
BUCHMUELLER | ASHLEY | ELISE
BUIJS | JOLIEN |
BURGESS | LILLIAN | LEE
BUSSCHAERT | BART | A.
CABANES | VALENTIN | JEREMY
CACERES LUNA | DIEGO | HUMBERTO
CAMERON | GORDON | A.
CARAPETI-MAROOTIAN | MELINA |
CARLSSON | EMILIE | NICOLE
CARTWRIGHT | RHONDA | SUE
CARVALHO | HUMBERTO | MOURAO
CASINI | ALESSANDRA | STOCKTON
CASTANO WAKOLBINGER | MARIA | ASTRID
CENSIER | MAXENCE |
CERNA | DAVID | MICHAEL
CHAI | ALI |
CHANG | HAN | CHING
CHAPMAN | JACK | MICHAEL
CHAPMAN | NICOLA | MCHELLE
CHARO | JEHAD |
CHARRINGTON | JACK | LUIS
CHARRINGTON | PETER | CLIVE
CHEN | KEVIN |
CHEN | XIAOTAO |
CHIU | ANITA | CHEE WEI
CHO | HYE | WON
CHOI | SOH | YOUNG
CHOI | KYUNGHWA |
CHOPLIN | PHILIPPE | YVES PATRICE
CHUA | CAYLEE | HSI-EM
CLUER | JAMES | PIERRE
COHEN | ANDREAS | BRUCE
COLE | DAVID | DONALD
COLEMAN | CLARISSA | GENEVIEVE A. LANGLEY
COLLI | MATHILDE | FRANCOISE MARIE
COOPER | CORNELIA | ANGELA
CROCKETT | TANJA | RUTH
CROTHERS | SARAH | LORI
CROXSON | KAREN | ANN
CRUZ | MARIA | LUISA GALHARDO
CUNNINGHAM | SHIRLEY | ANN
CURBERA | GUILLERMO |
DAFFY | BRADLEY | JOHN PATRICK
DAFTARY | AMAN | ADITYA
DAFTARY | ADITYA | RAVINDRA
DANNATT | DEBORAH |
DARGIS | CLARISSA | ILDIKO
DE ANGELIS | DINO | ANN
DE FACCI DE OLIVEIRA | MIGUEL | ANGELO
DE RAFAEL | REBECCA |
DEGE | ERIK | WILFRIED
DEL GIUDICE | MARCO |
DELAVAN | ELIZABETH | MARY
DETTORI-GESSNER | PIETRUCCIA |
DIAS | SHIRAN | CRYSANTH
DIEKMANN | MICHELE | DENISE
DING | LEI |
DIONNE | WAYNE | JAMES
DOHERTY | GRACE | TERESA
DONALD | ALEXANDER | JAMES
DOREY | KERRI | L.
DOREY | JEFFREY | ALAN
DORSEY-JOHNSON | ASHLEE | ERIN
DOUGLAS | ANTHONY | FRANCO DE SOUSA
DUHM | BERNHARD | DOMINIK
DUNNER | ALICE | ELIZABETH
DURANT | MASON | JOSEPH
ECCLES | MARK | AUDEN
EDDIE | SARAH |
EDWARDS | JOHN | PAUL THOMAS
EDWARDS | SUSAN | JANE
EGYED | ALEXANDER | FRANZ
EHRHART | CHARLES | EUGENE
ELEFF | DAVID | ZACHARY
ELGENBERG | PETER | NIKOLAI KARLSSON
ELLICOTT | YOSHIKA | UENO
ELLIOTT | JOHN | WALKER
ELLIS | ADAM | JAMES
ELLIS | ALEXANDER | ROBERT
ELLIS | ROBYN | SOPHIE
ERICSON | OLIVIA | GUNILLA
ESAKI | REIKO |
FAHLENBOCK | ANDREA | NICOLE
FARAG | MARIO |
FILTEAU | MARTIN |
FISCHER | GABRIELLA | U.
FITZHUGH | ALEXANDER | E.H.
FLEEMAN | LORNA | MARGARET
FLETCHER | ABIGAIL | L.
FLETCHER | MARK | R.
FLEWETT | LINDA | JEAN
FOERSTER-WALDL | ELISABETH | M.
FORTIN | DENIS |
FRANK | SELBY | ARMSTRONG
FREDRIKSSON | EJE | JERKER MATTIAS
FUJIMOTO | AYAKO |
FUJIMOTO | JUNYA |
FUJIMOTO | YASUHIDE |
FUJIMOTO | KENJI |
FUJINO | JUN |
FURGALE | IRENE | J.
FUSS | GABRIELLA | E.
GALVIN | STEVEN |
GANGULI | DEBJANI |
GARCIA | RAFAEL |
GARNEAU | CAROLINE |
GARRETT | JOHN | DAVID
GARVEY | VIVIENNE | ELAINE
GAUVIN | LUCIA | VARGAS
GEURKINK | PATRICK | WILLEM NICOLAAS
GIBSON | STEVEN | HAMILTON
GILBERT | TAL |
GLANVILLE | CELIA | MIA
GLEOUDI | NIKI |
GLIER | KAREN | MARIE
GO | KAREN | M.
GOBBI | ALBERTO | EMILIO
GONG | HUIFANG |
GONZALEZ-CAMINO | MARIA | DE LA LUZ
GOODSPEED | RACHEL | ANN
GORAS | WENDY | ANN
GOTO | SHUYA |
GOUGASSIAN | TONY |
GRAY | EVAN | GEORGE
GREENSMITH | MARTYN |
GREIG | KEVIN | ROBERTSON
GRENFELL | BRUCE | KEVIN
GUIZOL LETIZIA | SOONG | HAY
HACHIUMA | TSUNEO |
HAJI | RAHEEM | ABDULAZIZ
HAMAO | AYANO |
HAMPTON | ROBIN | ANDREA RICHMOND
HANNEY | SARAH | V.
HARADA | YOKO |
HARTLEY | TARYN | GAI
HARTNER | RENEE | CHRISTIAN
HAUCK | ERICA |
HAUSEN-MABILON | ETIENNE | MAXIMILIAN GABRIEL
HE | XIAOCEN |
HEIGL | ANDREAS | FRANZ
HEILO | SIMON | GEORGES
HEIM | SAKURA |
HERBERT | FRANZ | HELMUT
HERRING | JAMES | ROBERT DANIEL
HICKMOTT | LUKE | ANDREW
HICKS | SALINA | ALEXANDRA
HICKS | RONALD | PETTINGER
HILDEBRANDT | ELIZABETH | ANNE
HILL | SEAN | LEWIS
HILL | ALISON | ANNE
HILL | SAVANNAH | BEVERLEY ANNE
HO | MIN |
HOEDL | ISABELLA | ANGELA
HOGGART | RICHARD |
HONDA | TOKO |
HOPPENWORTH | THORSTEN |
HORIUCHI | ERINA |
HOWLETT | SUSANNAH | JANE
HSIEH | RUTH |
HSIEH | SU | ZEN
HUGHES | RHIAN | WYN
HUIJTING | JELLE | CAROLUS
HYATT | JAMES | OWEN
ICOCHEA | JULIA | XIMENA
IFTIME | DANIEL |
ISAKOV | KONSTANTIN |
ISHIKAWA | EMIKO |
ISHIKURO | KOICHI |
ITAKURA | MIHO |
IWAHARA | RINA | STEPHANIE
IZAWA | TOSHIKO |
JABELMAN | RUPERT | WILLIAM JESSE
JACOBI | LARS | FREDERICK
JAIN | ISHANK |
JAIN | LAKERI | ISHANK
JAIN | ROHIT |
JAKOBSSON | JANET | EILEEN BRONKEN
JAMROZINSKI | LISA | MARIE
JANG | IN | HO
JAVIER | JIHAN | KARA TOLENTINO
JENEST | ROBIN | LEE
JENSEN | LARS | TUBORG
JEYARAJAH | ANGELI | C.
JIAO | SHAOQIN |
JOEKES | ADOLF | MARCUS
JOG | LISA | YUKI
JOHNSON | FREDERICK | ALLEN
JOHNSON | LOUISE | ANNETTE
JOHNSON | CHRISTOPHER | DENNIS
JONES | BRYANT | DREW
JOO | SANGDON |
JORGENSEN | JANNE |
JOSEPH | LORENZO |
JOSSING | NILS | MATTHEW CHARLES
JURANEK | OLIVIA |
KAKUTANI | KOHEI |
KALCIYAN | ARTO |
KAMATH | ADITYA |
KANG | SO | YOUNG
KAPLAN | KENNETH | DAN
KAPLAN | JONATHAN |
KARAJANAGI | SANDEEP | SIDRAM
KARIMI | HANANEH |
KASS | PETRA | MARIA
KAUPPILA | HELENA | MARJATTA
KAWAMURA | TAKAYUKI |
KAWAMURA | SHIZUKA |
KAWASAKI | SWARSATTIE |
KAWASAKI | ARTHUR | JUN
KAWASHIMA | YUKO |
KESSLER | DAVID | SAMUEL
KESTREL | ASH | TIBERIUS
KIM | JUNG | SOOK
KIM | JONG | HUN
KIM | BOCHAN |
KIM | LAELEE |
KIM | YEONMIN |
KING | GRAHAM |
KINTZEL | RUTH |
KINTZEL | RALF | DIETRICH
KISKOVSKI | JOCELYNE |
KJESBU | JOACHIM | SEBASTIAN
KLAPAC | TIBOR | THOMAS
KLEEMAN | BJORN |
KONG | ZUOFAN |
KOSHOWSKI | MARCI | LEE
KOSTRHON | ANDREA | MICHELLE
KUNZ | CAROLINA | E.
KUO | TENG | FANG
KURIYA | YASUMI |
KWAN | HOI | YEE KAREN
KWOK | SAMANTHA | JIA-ING
LA ROCCA | ANTOINETTA |
LACHINE | CAROL | ANN
LAGERBERG | ANDREA | M.
LAJOIE | JUDITH |
LAM | CHEE | KONG
LANE | BELLA | MARIE
LANGBROEK | HENRIETTE | ALBERTINE
LANIGAN | JUSTIN | CHESTER
LAURIE | SVENJA |
LAWLOR | DANETTE | MARIE
LAWRENCE | NICOLETTE | LAN
LAZELL | ALEXANDRA | MARY
LEE | AIDAN | TROY
LEE | MAN | LING
LEE | HYUN | CHUL
LEFEBVRE | JEREMY | MARTIN
LEONG | CHRISTOPHER | ASHTON
LIANG | JACQUELINE | LI YU
LILJEDAL | KENNETH | HILDING
LIN | DANY | HUA-CHUN
LINDSAY | ROWAN | DARBY
LIPPIS | DANIEL | JAMES
LIPPIS | KIRSTIE | ANNE
LIU | YANNING |
LO | YEE | KWAN
LOCK | OLIVER | F.
LOEWE | INGE | MARTHA
LONDON | JAMES | AARON
LONDON | JENNIFER | CARLA
LOOSEMORE | KATHRYN | MARY
LUEDI | MANFRED | KARL
LUFT | ALEXANDER | JANE
MACAULAY | BARBARA | ANN
MACKINGER | ALEXANDER | LEE
MACKINNON | SUSAN | GAIL
MACNAGHTEN | MARY JANE | S.
MADA | YUKI |
MAGNUSSON | GABRIELLA | FRANCESSCA
MALDE | BHAGESH |
MALEKZAI | KAMRAN | ABDULLAH
MALLORIE | PHILIPPA | JOYCE
MANZONE | ALBERT | ANGE
MARKHAM | MARIA | LAUREEN
MARSHALL | JENNIFER | LEE
MARTINEZ PAOLETTI | JORGE |
MASCHER | MICHAEL | LUDWIG
MASCLET | JEAN-PIERRE | CHARLES
MASSEY | MICHAEL |
MASSEY | KAREN | GERALDINE
MAUELL | CHRISTIAN | HERRMANN
MCBRIDE | KIM | LEWIS
MCDOUGALL WRIGHT | MARLENE | DAWN
MCGAUGHEY | JENNIFER | MAREE
MCGUIRE | MAUREEN | ANN
MCKINLEY | DONNA | JEAN
MCNERNEY | ALLAN | CHARLES
MEADE | MICHAEL | J.
MEYER | EZRA |
MILARAS | JAMES | ALEXANDER
MILENTIS | ARIS | JOHN
MILLER | CHIE | WATANUKI
MILLER | LUKE | JOHN
MINASSIAN | ROUBINA | LAURENE
MINTZ | ROBERT |
MITROPOULOS | ARISTIDIS | A.
MITSUTOMI | SHIZUKO |
MOCHIDA | HAYATO | JOHN
MOHN | ELISABETH |
MOLKALMUR | AJIT | KUMAR RAMARAO
MOMMANENI | VIKRAM | NARAIN
MOORE | CELIA |
MOORE | JEREMY | NICHOLAS
MOORE | GARY | IAN
MOREY | TOBY | JOHN
MORI | HARUKA |
MOSSEL | THEODORUS | ALBERTUS KRIJN
MULDER | RICHARD |
MUNDIL | HEIDI |
MURDOCH | ANNA | LOUISE
MURDOCH | KATE | MAY
MUYZENBERG | KYRA | MARIA VAN DEN
NAH | SEONGSU |
NAIK | ANKUR | R.
NAKAGAWA | NAOMI |
NAKAI | RYO | JUSTIN
NAMMOUR | CHAWKAT | BENJAMIN
NASSEHI | DAMOON |
NEGLEIN | GABRIELE |
NEGRIN | MICOL | MANUELA
NELKIN | LEIGH | ANN
NESSIM | JULIA | FRANCES
NICHOLS | MICHAEL | RAY
NOMOTO | YOSHIKO |
NOMOTO | RYOICHI |
NUTTALL | JENNIFER | ANNE
NUZZI | YASUKO | K.
OAKLEY | JUDITH | MARGARET
OGILVY | PATRICK | A.
OGINO | KAZUYA | CHRISTOPHER
OHNUMA-OYLER | YUKO |
OIKAWA | ERIKO |
OKADA | TOMOMI |
OKADA | YUKIMASA |
ON | MAY | MEI
O'NEILL | FEIDHLIM | JOSEPH
ONGPIN | STEPHEN | ROBERTO
ONO | KINUKO |
ONO | HITOSHI |
ORR | LUCINDA | FRANCES
OSTLUND | STELLAN | SVEN
OSWALD | MARC | JEAN ROGER
OWENS | INGRID | KELLY
PAGE | KAREN | MARIAM
PAHLSON-MOLLER | KATARINA | M.
PARK | HANGUE |
PARKER | CHRISTOPHER | I.
PARRY | LEILA | MADELINE
PATEK | ELISABETH | ALEXANDRA
PAYANDEH | EMILY | A.
PEREZ | JASMIN | THORENS
PERRAT | CRAIG | JAMES
PERRON | STEPHANE |
PHILLIPS | ALEXANDER | MICHAEL
PHOENIX | ALASTOR | LOLA
PICK | BARBARA | JEAN
PLANTHARA | NIRMALA | MONICA
PLAQUE | CAROLINE | Y.
PRADA HERRERA | DIEGO | FERNANDO
PRICE | DONNA | L.
PRIEBE | ELIANOR | DOROTHEA MARLENA
PUCHALSKI | SARAH | M.
PUMPALOV | IVO | IVANOV
PYUN | WOOK | BUM
QIAN | YUNQING |
QORROLLI | SELIM |
QUINTANA | NIDIA | MARCELA
RAAP | LISA |
RABAN | JOHN | PHILIP
RABAN | NICOLA |
RATTENBURY | WILLIAM | ROBERT
RAVELLI | MARTINA |
READ | SCOTT | ANDREW
REICHE | ECKART | ERWIN
REICHE | SUSANNE |
REICHSTEIN | CARMEN |
REN | DEJUN |
RIBEIRO | SUSAN | ANNE
RITCHIE | ALEXANDRA | JENNIFER
RIVOLDI | NADINE |
ROBINE | ANNA | MARIE
ROEMICH | HANNELORE |
ROESLER | SABINE |
ROSAS GARCIA | FERNANDO |
ROSS | MOYA | ARMSTRONG
ROYEA | PETER | WASSON
RUBIN | RIEKO |
RUFFO | CONNIE | J.
RUSSELL | CAROLINE | AMANDA
RUSSELL | EMILY | KATHRYN
RUSSELL | ANTJE | SUSAN
RUSTIONI | EDWARD | ORESTE
SAHA | JOHNATHON |
SAHNI | INGRID |
SAKARYA | SUZAN |
SAKIKAWA | TOSHIMI |
SASAFU | KEN |
SATO | YUMIKO |
SATO | YUKIO |
SAWADA | KENJI |
SAWADA | KO |
SAWHNEY | URMILA | D.
SCATTOLA | ALESSANDRA |
SCATTOLA | PAOLA |
SCHARDT | ARIANNA | ALEXANDRA
SCHARDT | YLENIA | LARA
SCHLAEFER | NICO | MICHAEL
SCHOCKEN | GIDON |
SCHREDER | RALPH | ANDREAS
SCHUPPLER | NINA |
SCHWAB | WILLIAM | ANSEN SUNDE
SCHWARTZ | RACHEL |
SEBEK | KATHY | LYNN
SEEARS | HAMISH | NICHOLAS
SEIDEL | SOENKE | CHRISTIAN
SEOW | SHIH | YUN
SHAH | JAYA |
SHARMA | SUKENDER | DUTT
SHEPPARD | JUSTIN | HARLAN
SHIBATA | MICHIRU |
SHIMBA | YUICHIRO |
SI AHMED | KARIM |
SIEBER | KARIN | S.
SIEBESMA | EDWIN | PAUL
SIEBESMA | EVELINE |
SIETARAM | MALINI | R.
SIM | OLIVIA | TINA
SIMPSON | MARK | ANTHONY
SINCLAIR | ASHLEY | MARIE
SMEEKES | BEATRIJS | H.
SMITH | JEANE | KAREN
SMITH | BARRY | JAMES RAMSAY
SOBECK | ALEXANDRA | THERESIA
SON | WOO | HEE
SQUIER | JESSICA | A.
SQUIRES BASSON | KATHRYN | MARGARET
SROKA | JAN | OLE
STANKOVIC | ROBERT |
STEELE | JOHN | LANG
STEFFLER | SHARI | ANNE
STEIN | REBECCA | LEAH
STEINBERG | BENJAMIN | ETHAN
STEINBOECK | STEFANIE |
STEINER | INGMAR | MICHAEL
STEINKE | ERICA | FRANCES SOFFIA
STEPHENSON | RYAN | PRICE
STEVENS | AMMA | J.
STIEFMAIER | WILHELM |
STRAND | TIFFANY | ANN
STROM | WILLIAM | OSCAR
STURMBAUER | SARAH | CHRISTINA
SUDERMAN | DALE | JEFFERY
SURI | ARVIND |
SURI | SUSHIL |
SUSTRONCK | MARLEEN | ALBERT
TAAVITSAINEN | ANU | SUSANNA
TAGAWA | KEIKO |
TAKATANI | MARIKO |
TAKEKOSHI | TETSU |
TAN | MICHELLE | RUI QI
TAN | JONAS | FINE WEN-ZE
TANG | XUEMEI |
TATEMATSU | YUKO |
TATSUMI | YUMARI |
TAUZER | DAVID | R.
TAYLOR | VENUS | BLIZZARD
TEH | WYNNE |
TEH | DRYANDRA | SHINTA
TEH | WILLIAM | LEE PANG
TEMPLER | KARL |
THOMPSON | JOHN | A.
THOMSON | CLAIRE | LOUISE
THOMSON | KATHERINE | ROSE
THUN UND HOHENSTEIN | CLAUDIA | EVA
TILLOTSON | MELANIE | ADRIENNE
TRABOULSI | DJEMI | NEGIB
TREVATHAN | JEREMY | C.
TSIORIS | IONNIS | C.
TURNER | WILLIAM | JOHN
TYL | JENNIFER |
TYLER | ACHIM |
UNDERWOOD | ELAINE | CRISTINA
URZUA MACIAS | JORGE | JAVIER
USHIO | NORIKO |
VALVONA | TRACY | ANN
VAN DEN BRINK | FRANS |
VAN ELZAKKER | EMMA | ROSALIND
VAN GHEEL | KATHLEEN | M.
VAN WERSCH | SANDRA | LEONNE
VANET | GAETAN | REGIS ANDRE
VANGSGAARD | CHARLOTTE |
VARSANI | RAMESH | L.
VASQUEZ | EMI | YAMASAKI
VASSILIKA | ELENI |
VERDAM | KARIN |
VERME | ARIANA | DEL ROCIO
VERMYNCK | EVE-CHRISTIE | M.F.
VERNEY | FRANCESCA | CATHERINE
VEZINA | SUZANNE | MARIE GUILAINE
VICTOR | DOMINICA | BERNADETTE
VITTORI | PIERGIORGIO |
VON HELMOLT-SASSMANNHAUSEN | BETTINA | GABRIELE
VON TOERNE | MAY | ELISABETH
VORA | AMBIKA |
VUCINICH | DEBORAH | LYN
WAIBEL-PACHINGER | CHRISTINE | ANN
WALLERSTEIN | KONRAD | RICHARD BRUNO
WALLERSTEIN | NONGLUCK |
WANG | YURIKA |
WANG | ZENG |
WARING | DAWN | ELIZABETH
WARNER | THOMAS | JOSEPH
WARNER-SMITH | ELIZABETH | ANNE
WARRINGTON-MANLEY | KIMBERLEY | AMANDA
WATANABE | KATARO |
WATANABE | IKUKO |
WATANABE | OSAMU |
WEI | YI | PIN
WEI | JIANGLEI |
WESTLAND | LYNNE |
WESTWICK | EDWARD | JACK PETER
WHATLEY | RICHARD | JOHN
WIDEN | TANYA | LENA
WIDNEY | MARK | DANIEL
WIGLEY | CAROLINE | ELIZABETH
WILKIE | OMATSEYE |
WILLEME | PETER |
WILLEME | YVONNE |
WILLIAMS | KEITH | F.
WILLIAMS | CONNOR | JOSEPH
WILLIAMS | JOHN | BRIAN
WILLIAMS | DAMON | ALLEN
WILMERS | ELISABETH | ROCHE
WINBERG | SVEN | OSCAR
WINEBRENNER | ANDREW | J.
WINKLER PRINS | CORNELIS | ANTHONY
WINKLER PRINS | LYDIA |
WITTENBROCK | KATHRYN | PATRICIA
WOLFSTADT | ERIN | SARAH
WONG | MATTHEW | HANG
WONG | KENNETH | KIN-HEI
WOODCOK | BENJAMIN | JOHN
WRIGHT | IAN | PAUL
WROATH | ELEANOR | ANNA SOPHIA
XUE | YING |
YAMAMOTO | ETSUKO |
YANG | YONGLIANG |
YEADON | ANNE |
YEE TAM | ISABEL | CHUN
YOON | HYEYEON |
YU | XIAOHONG |
ZABOURA | RAMA | KHALIL
ZANIOL | ROBERT | JOHN
ZEE-WEI | EMMELINE | CHANG
ZHAN | ZHENG-YUN | JAMES
ZHANG | MING |
ZHANG | YONG |
ZHU | HONGGANG |
ZIESMANN | ANDREAS | THOMAS
ZIHLMANN | ROBERT |
ZIMMERMAN | ELLA | VIOLET
ZSIDAI | ZOLTAN | ROY

Dated: January 28, 2025.
Steven Levine,
Manager Team 1940, CSDC—Compliance Support, Development & Communications.

[FR Doc. 2025-02075 Filed 1-31-25; 8:45 am]

BILLING CODE 4830-01-P